DEPARTMENT OF ENERGY

Federal Energy Regulatory Commission

[Docket Nos. RP01-236-001, RP00-481-001, and RP00-553-004]

Transcontinental Gas Pipe Line Corporation; Notice of Compliance Filing

May 1, 2001.

Take notice that on April 19, 2001, Transcontinental Gas Pipe Line Corporation (Transco) in compliance with the Commission's order issued March 30, 2001 in the referenced dockets, (March 30 Order), tendered this filing to explain how its proposed tariff revisions filed on February 28, 2001, in Docket No. RP01-236 (February 28 Filing) relate to Transco's compliance with Order Nos. 637 and 587-L.

In addition, Transco submits herein, pursuant to the commission's directive in the March 30 Order, certain new and revised tariff sheets to its FERC Gas Tariff, Third Revised Volume No. 1, which tariff sheets were submitted on a pro forma basis in Transco's previous Order No. 637 compliance filing in Docket No. RP00-481-000 and were not superseded by the February 28 Filing. The enclosed tariff sheets, which are enumerated in Appendix A to the filing, are proposed to be effective as described more fully herein.

Any person desiring to protest said filing should file a protest with the Federal Energy Regulatory Commission, 888 First Street, NE., Washington, DC 20426, in accordance with Section 385.211 of the Commission's Rules and Regulations. All such protests must be filed on or before May 8, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11346 Filed 5-4-01; 8:45 am]

BILLING CODE 6717-01-M